DEPARTMENT OF EDUCATION

[Docket No. ED-2018-ICCD-0117]

Agency Information Collection Activities; Comment Request; EDFacts Data Collection School Years 2019-20, 2020-21, and 2021-22 (With 2018-19 Continuation)

AGENCY: National Center for Education Statistics (NCES), Department of Education (ED).

ACTION: Notice.

SUMMARY: In accordance with the Paperwork Reduction Act of 1995, ED is proposing a revision of an existing information collection.

DATES: Interested persons are invited to submit comments on or before January 7, 2019.

ADDRESSES: To access and review all the documents related to the information collection listed in this notice, please use http://www.regulations.gov by searching the Docket ID number ED-2018-ICCD-0117. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 550 12th Street SW, PCP, Room 9086, Washington, DC 20202-0023.

FOR FURTHER INFORMATION CONTACT: For specific questions related to collection activities, please contact Kashka Kubzdela, 202-245-7377 or email NCES.Information.Collections@ed.gov.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: EDFacts Data Collection School Years 2019-20, 2020-21, and 2021-22 (with 2018-19 continuation).

OMB Control Number: 1850-0925.

Type of Review: A revision of an existing information collection.

Respondents/Affected Public: State Education Agency.

Total Estimated Number of Annual Responses: 61.

Total Estimated Number of Annual Burden Hours: 126,880.

Abstract: EDFacts is a U.S. Department of Education (ED) initiative, conducted by the National Center for Education Statistics (NCES), to collect, analyze, report on, and promote the use of high-quality, pre-kindergarten through grade 12 (pre-K-12) performance data and state level postsecondary data for Perkins V for use in education planning, policymaking, and management and budget decision making to improve outcomes for students. By centralizing data provided by state education agencies about state level data, local education agencies, and schools, NCES uses the EDFacts data to report on students, schools, staff, services, and education outcomes at the state, district, and school levels. The centralized approach provides ED users with the ability to efficiently analyze and report on submitted data and has reduced the reporting burden for state and local data producers through the use of streamlined data collection, analysis, and reporting tools. EDFacts collects information on behalf of ED grant and program offices for approximately 150 data groups for all 50 states, Washington DC, Puerto Rico, and seven outlying areas and freely associated states (American Samoa, Federated States of Micronesia, Guam, Marshall Islands, Commonwealth of the Northern Mariana Islands, Republic of Palau, and the U.S. Virgin Islands), the Department of Defense Education Activity (DoDEA), and the Bureau of Indian Education (BIE). This request is to collect EDFacts data for the 2019-20, 2020-21, and 2021-22 school years and to expand the EDFacts data collection to include state level postsecondary data for the Strengthening Career and Technical Education for the 21st Century Act (Perkins V). This collection package will be available for public comment during two open periods, a 60 day and a 30 day, after which revisions will be made accordingly. As part of the public comment period review, ED requests that SEAs and other stakeholders respond to the directed questions found in Attachment D. Due to overlap in the timing of data collection activities between consecutive years of the EDFacts collection, we are carrying over in this submission the approved SY 2018-19 data collection, which is scheduled to end in February 2020.

Dated: November 1, 2018.
Kate Mullan,
Acting Director, Information Collection Clearance Division, Office of the Chief Privacy Officer, Office of Management.

[FR Doc. 2018-24264 Filed 11-5-18; 8:45 am]

BILLING CODE 4000-01-P